DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Drug Testing Advisory Board (DTAB) will meet on September 29, 2008 from 10 a.m. to 5 p.m. via video teleconference.

The DTAB will meet to provide an initial briefing to members regarding the proposed Final Notice for Revisions to the Mandatory Guidelines for Federal Workplace Drug Testing Programs. This meeting will be conducted in closed session since the public comment period has ended and it is not appropriate to receive further public comments in an open session. An open session will significantly frustrate the Department's ability to prepare for and participate in the internal review of the proposed Revisions. The meeting will be closed to the public as determined by the SAMHSA Administrator in accordance with Title 5 U.S.C. Section 552b(c)(6), 552b(c)(9)(B), and 5 U.S.C. App. 2 § 10(d).

Substantive program information and a roster of Board members may be obtained as soon as available after the meeting, either by accessing the SAMHSA Committee Web site at https://www.nac.samhsa.gov/DTAB/index.aspx or by contacting DTAB's Program Assistant, Ms. Giselle Hersh (see contact information below)

Committee Name: Substance Abuse and Mental Health Services Administration, Drug Testing Advisory Board.

Date/Time/Type: September 29, 2008, from 10 a.m. to 5 p.m.: Closed.

Place: 1 Choke Cherry Road, VTC Conference Room, L-1057, Rockville, Maryland 20857.

Contact: Ms. Giselle Hersh, Program Assistant, SAMHSA Drug Testing Advisory Board, 1 Choke Cherry Road, Room 2-1042, Rockville, Maryland 20857, Telephone: 240-276-2600, Fax: 240-276-2610, E-mail: Giselle.Hersh@samhsa.hhs.gov.

Toian Vaughn,
Committee Management Officer, Substance Abuse and Mental Health Services Administration.

[FR Doc. E8-21236 Filed 9-12-08; 8:45 am]

BILLING CODE 4162-20-P